DEPARTMENT OF TRANSPORTATION

Federal Aviation Administration

14 CFR Part 39

[Docket No. FAA-2008-0980; Directorate Identifier 2008-NM-008-AD; Amendment 39-15834; AD 2009-05-10]

RIN 2120-AA64

Airworthiness Directives; Airbus Model A330 Airplanes, and Model A340-200 and A340-300 Series Airplanes

AGENCY: Federal Aviation Administration (FAA), Department of Transportation (DOT).

ACTION: Final rule.

SUMMARY: The FAA is superseding an existing airworthiness directive (AD), which applies to certain Airbus Model A330, A340-200, and A340-300 series airplanes. That AD currently requires repetitive inspections of a certain bracket that attaches the flight deck instrument panel to the airplane structure; related investigative and corrective actions if necessary; and replacement of the existing bracket with a titanium-reinforced bracket, which ends the repetitive inspections in the existing AD. This new AD adds requirements only for airplanes on which the existing bracket was replaced with a titanium-reinforced bracket in accordance with the existing AD. The additional requirement is a one-time inspection to determine if certain fasteners are broken or cracked, and corrective actions if necessary. This AD results from a report that incorrect torque values could damage the bracket. We are issuing this AD to prevent a cracked bracket. Failure of this bracket, combined with failure of the horizontal beam, could result in collapse of the left part of the flight deck instrument panel, and consequent reduced controllability of the airplane.

DATES: This AD becomes effective April 14, 2009.

The Director of the Federal Register approved the incorporation by reference of certain publications listed in the AD as of April 14, 2009.

On February 8, 2007 (72 FR 256, January 4, 2007), the Director of the Federal Register approved the incorporation by reference of certain publications listed in the AD.

ADDRESSES: For service information identified in this AD, contact Airbus SAS—Airworthiness Office—EAL, 1 Rond Point Maurice Bellonte, 31707 Blagnac Cedex, France; fax +33 5 61 93 45 80, e-mail airworthiness.A330-A340@airbus.com.

Examining the AD Docket

You may examine the AD docket on the Internet at http://www.regulations.gov; or in person at the Document Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

The FAA issued a notice of proposed rulemaking (NPRM) to amend 14 CFR part 39 to include an AD that supersedes AD 2006-26-12, amendment 39-14870 (72 FR 256, January 4, 2007), for certain Airbus Model A330, A340-200, and A340-300 series airplanes. AD 2006-26-12 requires repetitive inspections of a certain bracket that attaches the flight deck instrument panel to the airplane structure; replacement of the bracket with a new, improved bracket; and related investigative and corrective actions if necessary. AD 2006-26-12 further requires replacement of the existing bracket with a titanium-reinforced bracket, which ends the repetitive inspections. That NPRM was published in the Federal Register on September 17, 2008 (73 FR 53770). That NPRM proposed to add requirements only for airplanes on which the existing bracket was replaced with a titanium-reinforced bracket in accordance with the existing AD. The additional requirement is a one-time inspection to determine if certain fasteners are broken or cracked, and corrective actions if necessary.

Explanation of Change to Paragraph (f) of This AD

We have removed the “Service Bulletin Reference” paragraph from this AD. (That paragraph was identified as paragraph (f) in the NPRM.) Instead, we have spelled out the service bulletin citations throughout this AD.

Comments

We gave the public the opportunity to participate in developing this AD. We received no comments on the NPRM or on the determination of the cost to the public.

Conclusion

We reviewed the relevant data and determined that air safety and the public interest require adopting the AD with the changes described previously. We also determined that these changes will not increase the economic burden on any operator or increase the scope of the AD.

Costs of Compliance

The following table provides the estimated costs for U.S. operators to comply with this AD. This AD affects about 24 Model A330 series airplanes of U.S. registry. There are currently no affected Model A340-200 and -300 series airplanes of U.S. registry. However, if one of these airplanes is imported and put on the U.S. Register in the future, these cost estimates would also apply to those airplanes.

Estimated Costs
Action | Work hours | Average labor rate per hour | Parts | Cost per airplane | Fleet cost
Inspections (required by AD 2006-26-12) | 1 | $80 | $0 | $80 per inspection cycle | $1,920 per inspection cycle.
Replacement and investigative actions (required by AD 2006-26-12) | 9 | 80 | 330 | $1,050 | $25,200.
One-time inspection (new action) | 2 | 80 | 0 | $160 | Up to $3,840.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14870 (72 FR 256, January 4, 2007) and by adding the following new airworthiness directive (AD):

2009-05-10 Airbus: Amendment 39-15834. Docket No. FAA-2008-0980; Directorate Identifier 2008-NM-008-AD.

Effective Date

(a) This AD becomes effective April 14, 2009.

Affected ADs

(b) This AD supersedes AD 2006-26-12.

Applicability

(c) This AD applies to all Airbus Model A330 airplanes, and Model A340-200 and A340-300 series airplanes; certificated in any category; except those airplanes identified in paragraphs (c)(1), (c)(2), and (c)(3) of this AD.

(1) Airplanes on which Airbus Modification 53446 has been incorporated in production.

(2) Model A330 airplanes on which Airbus Mandatory Service Bulletin A330-25-3249, Revision 01, dated July 10, 2007, has been embodied in service.

(3) Model A340-200 and -300 series airplanes on which Airbus Mandatory Service Bulletin A340-25-4245, Revision 01, dated July 10, 2007, has been embodied in service.

Unsafe Condition

(d) This AD results from a report that incorrect torque values could damage a certain bracket that attaches the flight deck instrument panel to the airplane structure. We are issuing this AD to prevent a cracked bracket. Failure of this bracket, combined with failure of the horizontal beam, could result in collapse of the left part of the flight deck instrument panel, and consequent reduced controllability of the airplane.

Compliance

(e) You are responsible for having the actions required by this AD performed within the compliance times specified, unless the actions have already been done.

Restatement of the Requirements of AD 2006-26-12

Initial Inspection

(f) At the applicable time specified in paragraph (f)(1) or (f)(2) of this AD, perform a detailed inspection of the bracket having part number (P/N) F2511012920000, which attaches the flight deck instrument panel to the airplane structure, in accordance with Airbus Mandatory Service Bulletin A330-25-3227 or A340-25-4230, both Revision 01, both dated May 3, 2005, as applicable.

(1) For Model A330 series airplanes: Prior to the accumulation of 16,500 total flight cycles, or within 60 days after April 25, 2005 (the effective date of AD 2005-06-08, amendment 39-14016, which was superseded by AD 2006-26-12), whichever is later.

(2) For Model A340-200 and -300 series airplanes: Prior to the accumulation of 9,700 total flight cycles, or within 2,700 flight cycles after April 25, 2005, whichever is later.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

No Cracking/Repetitive Inspections

(g) If no crack is found during the initial inspection required by paragraph (f) of this AD: Repeat the inspection thereafter at the applicable interval specified in paragraph (g)(1) or (g)(2) of this AD, in accordance with Airbus Mandatory Service Bulletin A330-25-3227 or A340-25-4230, both Revision 01, both dated May 3, 2005, as applicable, until the replacement specified in paragraph (j) of this AD has been accomplished.

(1) For Model A330 series airplanes: Intervals not to exceed 13,800 flight cycles.

(2) For Model A340-200 and -300 series airplanes: Intervals not to exceed 7,000 flight cycles.

Crack Found/Replacement and Repetitive Inspections

(h) If any crack is found during any inspection required by paragraph (f) or (g) of this AD: Do the actions in paragraphs (h)(1) and (h)(2) of this AD, except as provided by paragraph (i) of this AD, in accordance with Airbus Mandatory Service Bulletin A330-25-3227 or A340-25-4230, both Revision 01, both dated May 3, 2005, as applicable, until accomplishment of the replacement required by paragraph (j) of this AD.

(1) Before further flight: Replace the cracked bracket with a new, improved bracket having P/N F2511012920095, in accordance with Airbus Mandatory Service Bulletin A330-25-3227 or A340-25-4230, both Revision 01, both dated May 3, 2005, as applicable.

(2) Repeat the inspection of the replaced bracket as required by paragraph (f) of this AD, at the time specified in paragraph (h)(2)(i) or (h)(2)(ii) of this AD. Then, do repetitive inspections or replace the bracket as specified in paragraph (g) or (h) of this AD, as applicable.

(i) For Model A330 series airplanes: Within 16,500 flight cycles after replacing the bracket.

(ii) For Model A340-200 and -300 series airplanes: Within 9,700 flight cycles after replacing the bracket.

(i) If both flanges of a bracket are found broken during any inspection required by this AD: Before further flight, replace the bracket as specified in paragraph (h) of this AD and perform any applicable related investigative and corrective actions (which may include inspections for damage to surrounding structure caused by the broken bracket, and corrective actions for any damage that is found), in accordance with a method approved by the Manager, International Branch, ANM-116, Transport Airplane Directorate, FAA; or the European Aviation Safety Agency (EASA) (or its delegated agent).

Replacement of Brackets/Investigative and Corrective Actions

(j) Except as required by paragraph (h)(1) of this AD: Within 72 months after February 8, 2007 (the effective date of AD 2006-26-12), replace existing brackets having P/N F2511012920000 or P/N F2511012920095 with titanium-reinforced brackets having P/N F2511305220096; and perform any related investigative and corrective actions (which may include detailed inspections for cracking of the bracket or damage to surrounding structure caused by a broken bracket, and applicable corrective actions for any damage that is found); in accordance with Airbus Service Bulletin A330-25-3249 or A340-25-4245, both dated May 3, 2005; or Airbus Mandatory Service Bulletin A330-25-3249 or A340-25-4245, both Revision 01, both dated July 10, 2007; as applicable. After the effective date of this AD, use only Revision 01 of Airbus Mandatory Service Bulletin A330-25-3249 or A340-25-4245, both dated July 10, 2007; as applicable. If any crack is found, before further flight, repair in accordance with Airbus Service Bulletin A330-25-3249 or A340-25-4245, both dated May 3, 2005; or Airbus Mandatory Service Bulletin A330-25-3249 or A340-25-4245, both Revision 01, both dated July 10, 2007; as applicable. After the effective date of this AD, use only Revision 01 of Airbus Mandatory Service Bulletin A330-25-3249 or A340-25-4245, both dated July 10, 2007; as applicable. Replacement of the affected bracket with a titanium-reinforced bracket having P/N F2511305220096 ends the repetitive inspections required by paragraph (g) or (h) of this AD. Although Airbus Service Bulletin A330-25-3249 and A340-25-4245, both dated May 3, 2005; and Airbus Mandatory Service Bulletin A330-25-3249 and A340-25-4245, both Revision 01, both dated July 10, 2007; specify to submit certain information to the manufacturer, this AD does not include that requirement.

New Requirements of This AD

One-time Inspection

(k) For airplanes on which the actions required by paragraph (j) of this AD have been accomplished before the effective date of this AD: At the applicable time in paragraph (k)(1) or (k)(2) of this AD, remove the fasteners of the titanium-reinforced bracket and, if a fastener is broken, do a detailed inspection for cracking of the horizontal beam. Do all applicable corrective actions before further flight. Do all actions in accordance with the Accomplishment Instructions of Airbus Mandatory Service Bulletin A330-25-3249 or A340-25-4245, both Revision 01, both dated July 10, 2007, as applicable. Where Airbus Mandatory Service Bulletin A330-25-3249 or A340-25-4245, both Revision 01, both dated July 10, 2007, specifies to contact Airbus, before further flight, repair in accordance with a method approved by the Manager, International Branch, ANM-116, Transport Airplane Directorate, FAA; or the EASA (or its delegated agent).

(1) For Model A330 series airplanes: Prior to the accumulation of 16,500 total flight cycles, or within 20 months after the effective date of this AD, whichever occurs first.

(2) For Model A340-200 and -300 series airplanes: Prior to the accumulation of 12,400 total flight cycles, or within 20 months after the effective date of this AD, whichever occurs first.

Actions Accomplished According to Previous Issue of Service Bulletins

(l) This AD provides credit for actions performed in accordance with the service bulletins identified in paragraphs (1)(1) and (l)(2) of this AD.

(1) Accomplishing the actions specified in paragraphs (f), (g), and (h) of this AD before February 8, 2007, in accordance with Airbus Service Bulletin A330-25-3227 or A340-25-4230, both including Appendix 01, both dated June 17, 2004, as applicable, is acceptable for compliance with the requirements of those paragraphs.

(2) Accomplishing the actions specified in paragraphs (j) and (k) of this AD before the effective date of this AD in accordance with Airbus Mandatory Service Bulletin A330-25-3249 or A340-25-4245, both dated May 3, 2005, as applicable, is acceptable for compliance with the requirements of those paragraphs.

Alternative Methods of Compliance (AMOCs)

(m)(1) The Manager, International Branch, ANM-116, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your appropriate principal inspector (PI) in the FAA Flight Standards District Office (FSDO), or lacking a PI, your local FSDO.

(2) AMOCs approved previously in accordance with AD 2006-26-12 are approved as AMOCs for the corresponding provisions of this AD.

Related Information

(n) EASA airworthiness directives 2007-0281 and 2007-0282, both dated November 6, 2007, also address the subject of this AD.

Material Incorporated by Reference

(o) You must use the service information contained in Table 1 of this AD to do the actions required by this AD, as applicable, unless the AD specifies otherwise.

Table 1—All Material Incorporated by Reference
Document | Revision | Date
Airbus Mandatory Service Bulletin A330-25-3249 | Revision 01 | July 10, 2007.
Airbus Mandatory Service Bulletin A340-25-4245 | Revision 01 | July 10, 2007.
Airbus Service Bulletin A330-25-3227, excluding Appendix 01 | Revision 01 | May 3, 2005.
Airbus Service Bulletin A330-25-3249 | Original | May 3, 2005.
Airbus Service Bulletin A340-25-4230, excluding Appendix 01 | Revision 01 | May 3, 2005.
Airbus Service Bulletin A340-25-4245 | Original | May 3, 2005.

(1) The Director of the Federal Register approved the incorporation by reference of the service information contained in Table 2 of this AD under 5 U.S.C. 552(a) and 1 CFR part 51.

Table 2—New Material Incorporated by Reference
Document | Revision | Date
Airbus Mandatory Service Bulletin A330-25-3249 | Revision 01 | July 10, 2007.
Airbus Mandatory Service Bulletin A340-25-4245 | Revision 01 | July 10, 2007.

(2) The Director of the Federal Register previously approved the incorporation by reference of the service information contained in Table 3 of this AD on February 8, 2007 (72 FR 256, January 4, 2007).

Table 3—Material Previously Incorporated by Reference
Document | Revision | Date
Airbus Service Bulletin A330-25-3227, excluding Appendix 01 | Revision 01 | May 3, 2005.
Airbus Service Bulletin A330-25-3249 | Original | May 3, 2005.
Airbus Service Bulletin A340-25-4230, excluding Appendix 01 | Revision 01 | May 3, 2005.
Airbus Service Bulletin A340-25-4245 | Original | May 3, 2005.

(3) For service information identified in this AD, contact Airbus SAS—Airworthiness Office—EAL, 1 Rond Point Maurice Bellonte, 31707 Blagnac Cedex, France; fax +33 5 61 93 45 80, e-mail airworthiness.A330-A340@airbus.com.

(4) You may review copies of the service information at the FAA, Transport Airplane Directorate, 1601 Lind Avenue, SW., Renton, Washington. For information on the availability of this material at the FAA, call 425-227-1221 or 425-227-1152.

(5) You may also review copies of the service information that is incorporated by reference at the National Archives and Records Administration (NARA). For information on the availability of this material at NARA, call 202-741-6030, or go to: http://www.archives.gov/federal_register/code_of_federal_regulations/ibr_locations.html.

Issued in Renton, Washington, February 20, 2009.
Ali Bahrami
Manager, Transport Airplane Directorate, Aircraft Certification Service.

[FR Doc. E9-4649 Filed 3-9-09; 8:45 am]

BILLING CODE 4910-13-P